DEPARTMENT OF TRANSPORTATION

Federal Highway Administration

Rescinding the Notice of Intent for an Environmental Impact Statement (EIS): Hancock County, Mississippi

AGENCY: Federal Highway Administration (FHWA), DOT.

ACTION: Rescind Notice of Intent to prepare an EIS.

SUMMARY: This notice rescinds the Notice of Intent for preparing an Environmental Impact Statement (EIS) for a proposed highway in Hancock County, Mississippi. The project study area extended a distance of approximately six (6) miles from Interstate 10 to the intersection of State Routes 43 and 603 in the vicinity of Kiln Mississippi. The original Notice of Intent for this EIS process was published in the Federal Register on August 26, 2011.

FOR FURTHER INFORMATION CONTACT: Claiborne Barnwell, Project Development Team Leader, Federal Highway Administration, Mississippi Division, 100 West Capitol Street, Suite 1062, Jackson, Mississippi 39269, Telephone: (601) 965-4217 (email: claiborne.barnwell@dot.gov).

SUPPLEMENTARY INFORMATION: The Federal Highway Administration (FHWA) in cooperation with the Mississippi Department of Transportation (MDOT) initiated an Environmental Impact Statement (EIS) with a Notice of Intent August 26, 2011, to provide a connector road between Interstate 10 and the intersection of State Routes 43 and 603 just north of Kiln, Mississippi, a distance of approximately 6-miles.

Due to funding constraints the Notice of Intent is rescinded.

Andrew H. Hughes,
Division Administrator, Mississippi, Federal Highway Administration, Jackson, Mississippi.

[FR Doc. 2013-07675 Filed 4-2-13; 8:45 am]

BILLING CODE P